DEPARTMENT OF HOMELAND SECURITY

Federal Emergency Management Agency

[Docket ID FEMA-2021-0002; Internal Agency Docket No. FEMA-B-2167]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Arizona:
Coconino. | City of Flagstaff (21-09-0522P). | The Honorable Paul Deasy, Mayor, City of Flagstaff, 211 West Aspen Avenue, Flagstaff, AZ 86001. | Community Development Department, 211 West Aspen Avenue, Flagstaff, AZ 86001. | https://msc.fema.gov/portal/advanceSearch. | Dec. 3, 2021 | 040020
Maricopa. | City of Buckeye (19-09-1715P). | The Honorable Eric Orsborn, Mayor, City of Buckeye, 530 East Monroe Avenue, Buckeye, AZ 85326. | Engineering Department, 530 East Monroe Avenue, Buckeye, AZ 85326. | https://msc.fema.gov/portal/advanceSearch. | Dec. 10, 2021 | 040039
Maricopa. | City of Buckeye (20-09-1158P). | The Honorable Eric Orsborn, Mayor, City of Buckeye, 530 East Monroe Avenue, Buckeye, AZ 85326. | Engineering Department, 530 East Monroe Avenue, Buckeye, AZ 85326. | https://msc.fema.gov/portal/advanceSearch. | Nov. 26, 2021 | 040039
Maricopa. | Unincorporated Areas of Maricopa County (19-09-1715P). | The Honorable Jack Sellers, Chairman, Board of Supervisors, Maricopa County, 301 West Jefferson Street, 10th Floor, Phoenix, AZ 85003. | Flood Control District of Maricopa County, 2801 West Durango Street, Phoenix, AZ 85009. | https://msc.fema.gov/portal/advanceSearch. | Dec. 10, 2021 | 040037
Pima. | Town of Marana (21-09-0693P). | The Honorable Ed Honea, Mayor, Town of Marana, 11555 West Civic Center Drive, Marana, AZ 85653. | Engineering Department, Marana Municipal Complex, 11555 West Civic Center Drive, Marana, AZ 85653. | https://msc.fema.gov/portal/advanceSearch. | Dec. 13, 2021 | 040118
California:
San Diego. | City of San Diego (21-09-0611P). | The Honorable Todd Gloria, Mayor, City of San Diego, 202 C Street, 11th Floor, San Diego, CA 92101. | Development Services Department, 1222 1st Avenue, MS 301, San Diego, CA 92101. | https://msc.fema.gov/portal/advanceSearch. | Dec. 15, 2021 | 060295
San Diego. | Unincorporated Areas of San Diego County (21-09-0373P). | The Honorable Nathan Fletcher, Chairman, Board of Supervisors, San Diego County, 1600 Pacific Highway, Room 335, San Diego, CA 92101. | San Diego County Flood Control District, Department of Public Works, 5510 Overland Avenue Suite 410, San Diego, CA 92123. | https://msc.fema.gov/portal/advanceSearch. | Dec. 16, 2021 | 060284
Santa Clara. | City of San Jose (20-09-1371P). | The Honorable Sam Liccardo, Mayor, City of San Jose, Mayor's Office, 200 East Santa Clara Street, San Jose, CA 95113. | Department of Public Works, 200 East Santa Clara Street Tower, 5th Floor, San Jose, CA 95113. | https://msc.fema.gov/portal/advanceSearch. | Nov. 26, 2021 | 060349
Santa Clara. | Unincorporated Areas of Santa Clara County (20-09-1371P). | The Honorable Mike Wasserman, President, Board of Supervisors, Santa Clara County, 70 West Hedding Street, 10th Floor, San Jose, CA 95110. | Santa Clara County, Department of Planning and Development, 70 West Hedding Street, 7th Floor East Wing, San Jose, CA 95110. | https://msc.fema.gov/portal/advanceSearch. | Nov. 26, 2021 | 060337
Florida:
St. Johns. | Unincorporated Areas of St. Johns County (20-04-5575P). | Mr. Jeremiah Ray Blocker, Chair, Commissioner District 4, St. Johns County, 500 San Sebastian View, St. Augustine, FL 32084. | St. Johns County Administration Building, 4020 Lewis Speedway, St. Augustine, FL 32084. | https://msc.fema.gov/portal/advanceSearch. | Nov. 29, 2021 | 125147
St. Johns. | Unincorporated Areas of St. Johns County (21-04-1058P). | Mr. Jeremiah Ray Blocker, Chair, Commissioner District 4, St. Johns County, 500 San Sebastian View, St. Augustine, FL 32084. | St. Johns County Administration Building, 4020 Lewis Speedway, St. Augustine, FL 32084. | https://msc.fema.gov/portal/advanceSearch. | Dec. 16, 2021 | 125147
Idaho: Ada. | City of Boise (21-10-0465P) | The Honorable Lauren McLean, Mayor, City of Boise, P.O. Box 500, Boise, ID 83701 | City Hall, 150 North Capitol Boulevard, Boise, ID 83701. | https://msc.fema.gov/portal/advanceSearch. | Dec. 27, 2021 | 160002
Michigan: Wayne. | City of Northville (20-05-4952P). | The Honorable Brian Turnbull, Mayor, City of Northville, City Hall, 215 West Main Street, Northville, MI 48167. | City Hall, 215 West Main Street, Northville, MI 48167. | https://msc.fema.gov/portal/advanceSearch. | Nov. 26, 2021 | 260235
Minnesota: Washington: | City of Afton (20-05-4359P) | The Honorable Bill Palmquist, Mayor, City of Afton, 3033 St. Croix Trail, Afton, MN 55001. | City Hall, 3033 St. Croix Trail South, Afton, MN 55001. | https://msc.fema.gov/portal/advanceSearch. | Nov. 18, 2021 | 275226
Missouri:
Boone. | City of Columbia (21-07-0032P). | The Honorable Brian Treece, Mayor, City of Columbia, P.O. Box 6015, Columbia, MO 65205. | City Hall, 701 East Broadway, Columbia, MO 65205. | https://msc.fema.gov/portal/advanceSearch. | Nov. 8, 2021 | 290036
Howell. | City of Willow Springs (21-07-0432P). | The Honorable Brooke Fair, Mayor, City of Willow Springs, City Hall, P.O. Box 190, Willow Springs, MO 65793. | City Hall, 900 West Main Street, Willow Springs, MO 65793. | https://msc.fema.gov/portal/advanceSearch. | Dec. 16, 2021 | 290167
Howell. | Unincorporated Areas of Howell County (21-07-0432P). | Mr. Mark Collins, County Commissioner, Howell County, 35 Court Square, West Plains, MO 65775. | Howell County Surveyor's Office, 1390 Bill Virdon Boulevard, West Plains, MO 65775. | https://msc.fema.gov/portal/advanceSearch. | Dec. 16, 2021 | 290806
Nevada: Carson City. | City of Carson City (20-09-1029P). | The Honorable Lori Bagwell, Mayor, City of Carson City, City Hall, 201 North Carson Street, Suite 2, Carson City, NV 89701. | Building Division, Permit Center, 108 East Proctor Street, Carson City, NV 89701. | https://msc.fema.gov/portal/advanceSearch. | Nov. 29, 2021 | 320001
Oregon: Jackson. | City of Medford (21-10-0006P). | The Honorable Randy Sparacino, Mayor, City of Medford, City Hall, 411 West 8th Street, Medford, OR 97501. | City Hall, 411 West 8th Street, Medford, OR 97501. | https://msc.fema.gov/portal/advanceSearch. | Nov. 23, 2021 | 410096
Texas:
Lubbock. | City of Lubbock (20-06-3021P). | The Honorable Dan Pope, Mayor, City of Lubbock, P.O. Box 2000, Lubbock, TX 79457. | City Hall, 1625 13th Street, Lubbock, TX 79401. | https://msc.fema.gov/portal/advanceSearch. | Dec. 7, 2021 | 480452
Tarrant. | City of Forth Worth (20-06-3225P) | The Honorable Mattie Parker, Mayor, City of Fort Worth, Mayor's Office, 200 Texas Street, Fort Worth, TX 76102. | Department of Transportation and Public Works, 200 Texas Street, Fort Worth, TX 76102. | https://msc.fema.gov/portal/advanceSearch. | Dec. 7, 2021 | 480596
Washington:
Clark. | City of Washougal (21-10-1067P). | The Honorable Molly Coston, Mayor, City of Washougal, City Hall, 1701 C Street, Washougal, WA 98671. | City Hall, 1701 C Street, Washougal, WA 98671. | https://msc.fema.gov/portal/advanceSearch. | Nov. 26, 2021 | 530028
Clark. | Unincorporated Areas of Clark County (21-10-1067P). | Ms. Eileen Quiring O'Brien, Council Chair, Clark County, P.O. Box 5000, Vancouver, WA 98660. | Clark County Building Department, 1300 Franklin Street, Vancouver, WA 98660. | https://msc.fema.gov/portal/advanceSearch. | Nov. 26, 2021 | 530024
Wisconsin: Dane. | City of Sun Prairie (21-05-0005P). | The Honorable Paul T. Esser, Mayor, City of Sun Prairie, City Hall, 300 East Main Street, 2nd Floor, Sun Prairie, WI 53590. | City Hall, 300 East Main Street, Sun Prairie, WI 53590. | https://msc.fema.gov/portal/advanceSearch. | Dec. 15, 2021 | 550573

[FR Doc. 2021-20300 Filed 9-20-21; 8:45 am]

BILLING CODE 9110-12-P